INTERNATIONAL TRADE COMMISSION

[Investigations Nos. 731-TA-457 A-D (Review)]

Heavy Forged Handtools From China

Determinations

On the basis of the record ¹ developed in the subject five-year reviews, the United States International Trade Commission determines, pursuant to section 751(c) of the Tariff Act of 1930 (19 U.S.C. 1675(c)) (the Act), that revocation of the antidumping duty orders on heavy forged handtools from China would be likely to lead to continuation or recurrence of material injury to an industry in the United States within a reasonably foreseeable time.

¹ The record is defined in § 207.2(f) of the Commission's rules of practice and procedure (19 CFR 207.2(f)).

Background

The Commission instituted these reviews on July 1, 1999 (64 FR 35682) and determined on October 1, 1999 that it would conduct full reviews (64 FR 55958, October 15, 1999). Notice of the scheduling of the Commission's reviews and of a public hearing to be held in connection therewith was given by posting copies of the notice in the Office of the Secretary, U.S. International Trade Commission, Washington, DC, and by publishing the notice in the Federal Register on February 10, 2000 (65 FR 6626). The hearing was held in Washington, DC, on May 16, 2000, and all persons who requested the opportunity were permitted to appear in person or by counsel.

The Commission transmitted its determinations in these reviews to the Secretary of Commerce on July 19, 2000. The views of the Commission are contained in USITC Publication 3322 (July 2000), entitled Heavy Forged Handtools from China: Investigations Nos. 731-TA-457 (A-D) (Review).

By order of the Commission.
Dated: July 21, 2000.
Donna R. Koehnke,
Secretary.

[FR Doc. 00-18925 Filed 7-25-00; 8:45 am]

BILLING CODE 7020-02-P